DEPARTMENT OF TRANSPORTATION

Coast Guard

46 CFR Parts 140, 141, 142, 143, 144, 145 and 146

[USCG 2001-9173]

RIN 2115-AF75

Floating Production, Storage, and Offloading Units in the Gulf of Mexico

AGENCY: Coast Guard, DOT.

ACTION: Reopening of comment period.

SUMMARY: The Coast Guard is reopening the period for public comment on Floating Production, Storage, and Offloading Units in the Gulf of Mexico. Letters received to the docket requested more time to collect data and to develop comments.

DATES: Comments must be received on or before July 16, 2001.

ADDRESSES: You may submit your written comments and related material by any one of the following methods:

(1) By mail to the Docket Management Facility, [USCG-2001-9173], U.S. Department of Transportation, room PL-401, 400 Seventh Street SW., Washington, DC 20590-0001.

(2) By hand to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management Facility at http://dms.dot.gov.

The Docket Management Facility maintains the public docket for this notice. Comments and documents, as indicated in this notice, will become part of this docket and will be available for inspection or copying at room PL-401 on the Plaza Level of the Nassif Building at the same address between 9 a.m. and 5 p.m., Monday through Friday, except Federal holidays. You may electronically access the public docket for this notice on the Internet at http://dms.dot.gov.

FOR FURTHER INFORMATION CONTACT: For information on the reopening of the comment period contact Lieutenant Commander Russell Proctor, Vessel Compliance Division (G-MOC-2), U.S. Coast Guard Headquarters, 2100 Second Street, SW., Washington DC 20590, telephone 202-267-0499. For questions on viewing or submitting material to the docket, call Ms. Dorothy Beard, Chief of Dockets, Department of Transportation, telephone 202-366-5149.

SUPPLEMENTARY INFORMATION:

Request for Comments

The Coast Guard encourages interested persons to participate in the request for comments period by submitting written data, views, or arguments.

To do so, please include your name and address, identify this docket [USCG 2001-9173], the specific issue for comment, and give the reason for each comment. You may submit your written comments and material by mail, hand, fax, or electronic means to the Docket Management Facility at the address under ADDRESSES; but please do not submit the same comment or material by more than one means. Do not submit comments that have already been made part of the docket. If you submit them by mail or hand, submit them in an unbound format, no larger than 8½ by 11 inches, suitable for copying and electronic filing. If you submit them by mail and would like to know they were received, enclose a stamped, self-addressed postcard or envelope. The Coast Guard will consider all comments and material received during the comment period. All comments may be viewed at http://dms.got.gov.

Background

On March 27, 2001, the Coast Guard published a Notice of meeting; request for comments in the Federal Register (66 FR 16643). We requested comments on Floating Production, Storage, and Offloading Units in the Gulf of Mexico. A meeting was held on May 3, 2001, in Houston, Texas.

Purpose

Comments to the docket requested more time to collect data and to develop comments. Based on these requests and on the small number of comments received so far, the Coast Guard is reopening the comment period.

Dated: May 4, 2001.
Joseph J. Angelo,
Acting Assistant Commandant for Marine Safety and Environmental Protection.

[FR Doc. 01-12114 Filed 5-14-01; 8:45 am]

BILLING CODE 4910-15-M